DEPARTMENT OF HEALTH AND HUMAN SERVICES

National Institutes of Health

Center for Scientific Review, Amended Notice of Meeting

Notice is hereby given of a change in the meeting of the Center for Scientific Review Special Emphasis Panel, October 2, 2006, 2 p.m. to October 2, 2006, 5 p.m. National Institutes of Health, 6701 Rockledge Drive, Bethesda, MD 20892 which was published in the Federal Register on September 7, 2006, 71 FR 52809-52810.

The meeting will be held October 19, 2006. The meeting time and location remain the same. The meeting is closed to the public.

Dated: September 14, 2006.
Anna Snouffer,
Acting Director, Office of Federal Advisory Committee Policy.

[FR Doc. 06-8091 Filed 9-21-06; 8:45 am]

BILLING CODE 4140-01-M